DEPARTMENT OF TRANSPORTATION

Federal Aviation Administration

[Policy Statement No. ANM-03-115-30]

Side-Facing Seats on Transport Category Airplanes

AGENCY: Federal Aviation Administration (FAA), DOT.

ACTION: Notice of final policy.

SUMMARY: The Federal Aviation Administration (FAA) announces the availability of final policy that updates existing certification policy on § 25.785(a), Amendment 25-64, for side-facing seats.

DATES: This final policy was issued by the Transport Airplane Directorate on May 6, 2005.

FOR FURTHER INFORMATION CONTACT: Michael T. Thompson, Federal Aviation Administration, Transport Airplane Directorate, Transport Standards Staff, Airframe and Cabin Safety Branch, ANM-115, 601 Lind Avenue, SW., Renton, WA 98055-4056; telephone (425) 227-1157; fax (425) 227-1232; e-mail: michael.t.thompson@faa.gov.

SUPPLEMENTARY INFORMATION:

Disposition of Comments

A notice of proposed policy was published in the Federal Register on September 19, 2003 (68 FR 54931). Four (4) commenters responded to the request for comments.

Background

The final policy provides Federal Aviation Administration (FAA) certification policy on the occupant protection requirements of § 25.785(a), Amendment 25-64, for side-facing seats. Specifically, it provides guidance used to establish the minimum acceptable testing and human injury criteria for obtaining special conditions for single occupant side-facing seats and an exemption for multiple occupant side-facing seats.

The final policy as well as the disposition of comments received is available on the Internet at the following address: http://www.airweb.faa.gov/rgl. If you do not have access to the Internet, you can obtain a copy of the policy by contacting the person listed under FOR FURTHER INFORMATION CONTACT.

Issued in Renton, Washington, on May 6, 2005.
Ali Bahrami,
Manager, Transport Airplane Directorate Aircraft Certification Service.

[FR Doc. 05-9703 Filed 5-13-05; 8:45 am]

BILLING CODE 4910-13-M